DEPARTMENT OF TRANSPORTATION

Pipeline and Hazardous Materials Safety Administration

[Docket: RSPA-98-4957]

Request for Public Comments and Office of Management and Budget (OMB) Approval of an Existing Information Collection (2137-0049)

AGENCY: Pipeline and Hazardous Materials Safety Administration (PHMSA) Department of Transportation (DOT).

ACTION: Notice.

SUMMARY: A person owning or operating a pipeline facility is required to maintain records, make reports, and provide information to the Secretary of Transportation at the Secretary's request. The Secretary, through PHMSA, uses this information to decide whether the owner or operator is complying with the Pipeline Safety Law (49 U.S.C.). This notice is published (pursuant to the Paperwork Reduction Act of 1995) to measure the need for paperwork collection from gas pipeline operators, to find ways to minimize the burden on these operators, to find ways to enhance the quality of information collected, and to verify the accuracy of PHMSA's estimate of the burden (measured in work hours) on private entities. This notice also seeks approval from OMB to renew the existing approval of this paperwork collection.

DATES: Comments on this notice must be received by May 16, 2005 to be assured of consideration.

ADDRESSES: You may submit written comments to the docket by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington, DC. The Dockets Facility is open from 10 am to 5 pm, Monday through Friday, except Federal holidays.

• Web site: Go to http://dms.dot.gov, click on “Comments/Submissions” and follow instructions at the site.

All written comments should identify the docket number and notice number stated in the heading of this notice.

Docket access. For copies of this notice or other material in the docket, you may contact the Dockets Facility by phone (202-366-9329) or visit the facility at the above street address. For Web access to the dockets to read and download filed material, go to http://dms.dot.gov/search. Then type in the last four digits of the docket number shown in the heading of this notice, and click on “Search.”

Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

Interested persons are invited to send comments regarding the burden estimated or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Florence Hamn, Office of Pipeline Safety, PHMSA, DOT, 400 Seventh Street, SW., Washington, DC 20590 (202) 366-3015 or by e-mail at Florence.Hamn@dot.gov.

SUPPLEMENTARY INFORMATION: The Pipeline Safety Law (49 U.S.C. Chapter 601) grants the Secretary of Transportation the authority to prescribe minimum safety standards for pipeline transportation and for pipeline facilities. To enable the Secretary to decide whether a person owning or operating a pipeline facility is complying with this chapter and standards prescribed or orders issued under this chapter, the person is required to (i) maintain records, make reports, and provide information the Secretary requires; and (ii) make the records, reports, and information available when the Secretary requests. These records help ascertain compliance and provide information for incident investigation. PHMSA is requesting comments from gas pipeline operators regarding the burden associated with providing recordkeeping requirements. The feedback from this request will assist PHMSA in assessing how it collects this information and also ensure that gas pipelines are operated in a safe manner.

As used in this notice, ‘information collection’ and ‘paperwork collection’ are synonymous, and include all work related to preparing and disseminating information related to this recordkeeping requirement including completing paperwork, gathering information and conducting telephone calls.

Type of Information Collection Request: Renewal of Existing Collection.

Title of Information Collection: Recordkeeping for Gas Pipeline Operators.

OMB Approval Number: 2137-0049.

Frequency: Annually, and as needed.

Use: This collection is used by PHMSA to ensure its statutory mandates for gas pipeline safety.

Estimated Number of Respondents: 22,300.

Respondents: Gas pipeline operators.

Total Annual Hours Requested: 940,991.

Issued in Washington, DC, on March 7, 2005.
Theodore L. Willke,
Deputy Associate Administrator for Pipeline Safety.

[FR Doc. 05-5190 Filed 3-15-05; 8:45 am]

BILLING CODE 4910-60-P